DEPARTMENT OF JUSTICE

Antitrust Division

Notice Pursuant to the National Cooperative Research and Production Act of 1993—LiMo Foundation

Notice is hereby given that, on March 27, 2008, pursuant to Section 6(a) of the National Cooperative Research and Production Act of 1993, 15 U.S.C. 4301 et seq. (“the Act”), LiMo Foundation (“LiMo”) filed written notifications simultaneously with the Attorney General and the Federal Trade Commission disclosing changes in its membership. The notifications were filed for the purpose of extending the Act's provisions limiting the recovery of antitrust plaintiffs to actual damages under specified circumstances. Specifically, TrollTech ASA, Oslo, NORWAY; Purple Labs SA, Le Bourget du Lac, FRANCE; Access Co., Ltd., Tokyo, JAPAN; Shenzhen Huawei Communication Technologies Co., Ltd., Shenzhen, PEOPLE'S REPUBLIC OF CHINA; Advanced Micro Devices, Inc., Markham, Ontario, CANADA; FueTrek Co., Ltd., Osaka, JAPAN; Samsung SDS, Seoul, REPUBLIC OF KOREA; Renases Technology Corporation, Tokyo, JAPAN; STMicroelectronics, Milan, ITALY; Open-Plug, Sophia Antipolis, FRANCE; and France Telecom S.A. (Orange Personal Communications Services Limited), Moulineaux, FRANCE, have been added as parties to this venture.

In addition, Celunite, Inc., changed its name to Azingo, Sunnyvale, CA.

No other changes have been made in either the membership or planned activity of this group research project. Membership in this group research project remains open, and LiMo intends to file additional written notifications disclosing all changes in membership.

On March 1, 2007, LiMo filed its original notification pursuant to Section 6(a) of the Act. The Department of Justice published a notice in the Federal Register pursuant to Section 6(b) of the Act on April 9, 2007 (72 FR 17583).

The last notification was filed with the Department on January 15, 2008. A notice was published in the Federal Register pursuant to Section 6(b) of the Act on February 25, 2008 (73 FR 10065).

Patricia A. Brink,
Deputy Director of Operations, Antitrust Division.

[FR Doc. E8-10135 Filed 5-8-08; 8:45 am]

BILLING CODE 4410-11-M